DEPARTMENT OF DEFENSE

Office of the Secretary

[Docket ID: DoD-2024-OS-0077]

Proposed Collection; Comment Request

AGENCY: National Defense University (NDU), Department of Defense (DoD).

ACTION: 60-Day information collection notice.

SUMMARY: In compliance with the Paperwork Reduction Act of 1995, the NDU announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by September 9, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

FOR FURTHER INFORMATION CONTACT: To request more information on this proposed information collection or to obtain a copy of the proposal and associated collection instruments, please write to National Defense University, 300 5th Ave. SW, Building 64, Room 314Z, Fort Lesley J. McNair, Washington, DC 20319, Monica Owczarzak (NDU Privacy Officer), 202-685-9464.

SUPPLEMENTARY INFORMATION:

Title; Associated Form; and OMB Number: NDU Security In-Process Form and National Background Investigation Services (NBIS) eApp Nomination Tier One Background Investigation Form; OMB Control Number 0704-0622.

Needs and Uses: This collection is used to properly verify an NDU employee's identity for the purpose of verifying their security clearance and need to know for their intended role at NDU. These collections also initiate minimum background investigations to meet (Homeland Security Presidential Directive 12 requirements for purposes of issuing a Common Access Card and NDU badge.

Affected Public: Individuals or households.

NDU Security In-Process Form

Annual Burden Hours: 27.08.

Number of Respondents: 125.

Responses per Respondent: 1.

Annual Responses: 125.

Average Burden per Response: 13 minutes.

NDU NBIS eApp Nomination Tier One Background Investigation Form

Annual Burden Hours: 16.67.

Number of Respondents: 100.

Responses per Respondent: 1.

Annual Responses: 100.

Total

Annual Burden Hours: 44.

Number of Respondents: 225.

Annual Responses: 225.

Average Burden per Response: 11.73 minutes.

Frequency: Annually.

Dated: July 2, 2024.
Aaron T. Siegel,
Alternate OSD Federal Register Liaison Officer, Department of Defense.

[FR Doc. 2024-15048 Filed 7-8-24; 8:45 am]

BILLING CODE 6001-FR-P